DEPARTMENT OF ENERGY

Federal Energy Regulatory Commission

Combined Notice of Filings #1

Take notice that the Commission received the following electric rate filings:

Docket Numbers: ER10-2739-017; ER10-1631-010; ER10-1854-010; ER10-2678-011; ER10-2743-012; ER10-2744-011; ER10-2751-012; ER10-2755-015; ER11-3320-010; ER13-2316-008; ER14-1219-005; ER14-19-009; ER16-1652-005; ER16-1732-004; ER16-2405-004; ER16-2406-004; ER17-1946-003; ER17-989-003; ER17-990-003; ER17-991-003; ER17-992-003; ER17-993-003.

Applicants: LS Power Marketing, LLC, Armstrong Power, LLC, Aurora Generation, LLC, Bath County Energy, LLC, Bluegrass Generation Company, L.L.C., Chambersburg Energy, LLC, Doswell Limited Partnership, Gans Energy, LLC, Helix Ironwood, LLC, Hunlock Energy, LLC, Las Vegas Power Company, LLC, LifeEnergy, LLC, LSP University Park, LLC, Renaissance Power, L.L.C., Riverside Generating Company, L.L.C., Rockford Power, LLC, Rockford Power II, LLC, Seneca Generation, LLC, Springdale Energy, LLC, Troy Energy, LLC, University Park Energy, LLC, West Deptford Energy, LLC.

Description: Notification of Change in Status of the LS PJM MBR Sellers.

Filed Date: 8/10/17.

Accession Number: 20170810-5151.

Comments Due: 5 p.m. ET 8/31/17.

Docket Numbers: ER17-1617-001.

Applicants: Duke Energy Carolinas, LLC.

Description: Tariff Amendment: Response to Deficiency Docket ER17-1617 to be effective 7/19/2017.

Filed Date: 8/11/17.

Accession Number: 20170811-5027.

Comments Due: 5 p.m. ET 9/1/17.

Docket Numbers: ER17-1618-001.

Applicants: Duke Energy Progress, LLC.

Description: Tariff Amendment: Response to Deficiency Letter ER17-1618 to be effective 7/19/2017.

Filed Date: 8/11/17.

Accession Number: 20170811-5024.

Comments Due: 5 p.m. ET 9/1/17.

Docket Numbers: ER17-2283-000.

Applicants: Alabama Power Company.

Description: § 205(d) Rate Filing: Filing of Terminated AMEA NITSA Amendment Agreement to be effective 5/16/2017.

Filed Date: 8/10/17.

Accession Number: 20170810-5110.

Comments Due: 5 p.m. ET 8/31/17.

Docket Numbers: ER17-2284-000.

Applicants: Liberty Utilities (Granite State Electric) Corp.

Description: § 205(d) Rate Filing: Borderline Sales Rate Sheet Update 2017 to be effective 8/1/2017.

Filed Date: 8/10/17.

Accession Number: 20170810-5122.

Comments Due: 5 p.m. ET 8/31/17.

Docket Numbers: ER17-2285-000.

Applicants: PacifiCorp.

Description: PacifiCorp submits Average System Cost Filing for Sales of Electric Power to the Bonneville Power Administration, FY 2018-2019.

Filed Date: 8/11/17.

Accession Number: 20170811-5025.

Comments Due: 5 p.m. ET 9/1/17.

Take notice that the Commission received the following public utility holding company filings:

Docket Numbers: PH17-18-000.

Applicants: LS Power Development, LLC.

Description: LS Power Development, LLC submits FERC 65-B Non-Material Change in Facts of Waiver Notification.

Filed Date: 8/10/17.

Accession Number: 20170810-5142.

Comments Due: 5 p.m. ET 8/31/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 11, 2017.
Nathaniel J. Davis, Sr.,
Deputy Secretary.

[FR Doc. 2017-17473 Filed 8-17-17; 8:45 am]

BILLING CODE 6717-01-P